DEPARTMENT OF JUSTICE

Federal Bureau of Investigation

[OMB Number: 1110-New]

Agency Information Collection Activities; Proposed eCollection eComments Requested; New Collection

AGENCY: Office of Private Sector, Federal Bureau of Investigation, Office of Private Sector, Department of Justice.

ACTION: 60-Day notice.

SUMMARY: The Department of Justice, Federal Bureau of Investigation, Office of Private Sector, is submitting the following information collection request to the Office of Management and Budget (OMB) for review and approval in accordance with the Paperwork Reduction Act of 1995.

DATES: The Department of Justice encourages public comment and will accept input until August 8, 2018.

FOR FURTHER INFORMATION CONTACT: If you have additional comments especially on the estimated public burden or associated response time, suggestions, or need a copy of the proposed information collection instrument with instructions or additional information, please contact Johnny Starrunner, Unit Chief, Federal Bureau of Investigation, Office of Private Sector, 935 Pennsylvania Ave., Washington DC, jrstarrunner@fbi.gov, 202-436-8136. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

Evaluate whether the proposed collection of information is necessary for the proper performance of the functions of the [Component or Office name], including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection:

1. Type of Information Collection: New Collection.

2. The Title of the Form/Collection: Sector and Industry Survey.

3. The agency form number, if any, and the applicable component of the Department sponsoring the collection: “There is no agency form number for this collection.” The applicable component within the Department of Justice is the Federal Bureau of Investigation, Office of Private Sector.

4. Affected public who will be asked or required to respond, as well as a brief abstract: Primary respondents will be individuals. Information will be collected from FBI InfraGard and Domestic Security Alliance Council (DSAC) members to assist in determining the private sector partner's perspective in regards to the status of critical infrastructure sector/sub-sector/industry's risks and concerns.

5. An estimate of the total number of respondents and the amount of time estimated for an average respondent to respond: There is an expectation of approximately 500 respondents per survey. It is estimated that each survey will take approximately 10-15 minutes to complete.

6. An estimate of the total public burden (in hours) associated with the collection: (approximation) 20 surveys of 500 respondents each at 15 minute survey completion rate = 2500 hours.

If additional information is required contact: Melody Braswell, Department Clearance Officer, United States Department of Justice, Justice Management Division, Policy and Planning Staff, Two Constitution Square, 145 N Street NE, 3E.405A, Washington, DC 20530.

Dated: July 3, 2018.
Melody Braswell,
Department Clearance Officer for PRA, U.S. Department of Justice.

[FR Doc. 2018-14597 Filed 7-6-18; 8:45 am]

BILLING CODE 4410-02-P